DEPARTMENT OF HOUSING AND URBAN DEVELOPMENT

[Docket No. FR-5030-C-01D]

Fiscal Year (FY) 2006 SuperNOFA for HUD's Discretionary Programs; Notice of Extension of Application Submission Date for Areas Affected by the President's Emergency Declaration for State of Maine, Commonwealth of Massachusetts, and State of New Hampshire

AGENCY: Office of the Secretary, HUD.

ACTION: Notice of extension of application submission date for applicants submitting applications from areas affected by the President's Emergency Declaration for the State of Maine, Commonwealth of Massachusetts and State of New Hampshire.

SUMMARY: On January 20, 2006, HUD published its Fiscal Year FY2006, Notice of Funding Availability Policy Requirements and General Section (General Section) to the SuperNOFA for HUD's Discretionary Programs. On March 8, 2006, HUD published its FY2006, SuperNOFA, for HUD's Discretionary Grant Programs. This notice announces that HUD has extended the submission deadline date for the Community Development-Technical Assistance Program, Fair Housing Initiatives Program, Housing Choice Voucher-Family Self-Sufficiency Program, and Rural Housing and Economic Development Program NOFAs that were part of the FY2006 SuperNOFA. Specifically, this notice extends the submission deadline dates for only those applicants located in areas designated by the President as disaster areas, as the result of severe storms and flooding that began on May 12, 2006 and adversely affected areas of the State of Maine, Commonwealth of Massachusetts and State of New Hampshire. The areas included in the President's Emergency Declaration and covered by this Notice are the Maine county of York; the Massachusetts counties of Essex, Middlesex and Suffolk; and the New Hampshire counties of Belknap, Carroll, Hillsborough, Merrimack, Rockingham and Strafford. For those applicants located in one of these counties, the revised deadline date is June 27, 2006 at 11:59:59 p.m. eastern time. All electronic applications are available at http://www.Grants.gov and must be received and validated by Grants.gov by the deadline date and time. As provided by the General Section, applicants wishing to submit a hard copy application must obtain a waiver from HUD. If the waiver is granted, applications must be received by HUD in accordance with the waiver approval notice by the deadline date and time. Applications received from areas other than those listed in the emergency declarations will not be considered. Applications received in accord with the submission requirements and not impacted by the declaration are under review and are not affected by this Notice.

DATES: The application deadline dates for the Community Development-Technical Assistance Program, Fair Housing Initiatives Program, Housing Choice Voucher-Family Self-Sufficiency Program, and Rural Housing and Economic Development Programs for applicants located in the areas designated by the President as disaster areas, as the result of severe storms and flooding that began on May 12, 2006 and adversely affected areas of the State of Maine, Commonwealth of Massachusetts and State of New Hampshire is extended to June 27, 2006.

FOR FURTHER INFORMATION CONTACT: Questions regarding the programs listed in this notice should be directed to the office or individual listed under Section VII of the individual program sections of the SuperNOFA, published on March 8, 2006.

SUPPLEMENTARY INFORMATION: On January 20, 2006, HUD published its FY2006 Notice of Funding Availability Policy Requirements and General Section (General Section) to the SuperNOFA for HUD's Discretionary Programs. On March 8, 2006, HUD published its FY2006, SuperNOFA, for HUD's Discretionary Grant Programs. On May 25, 2006, as the result of severe storms and flooding that adversely affected certain areas of the State of Maine, Commonwealth of Massachusetts, and the State of New Hampshire, the President issued an emergency declaration. The President's declaration included the Maine county of York; the Massachusetts counties of Essex, Middlesex and Suffolk; and the New Hampshire counties of counties of Belknap, Carroll, Hillsborough, Merrimack, Rockingham and Strafford. Based on the President's declaration, HUD is extending the submission deadline date for the Community Development-Technical Assistance Program, Fair Housing Initiatives Program, Housing Choice Voucher-Family Self-Sufficiency Program, and Rural Housing and Economic Development Program NOFAs that were part of the FY2006 SuperNOFA. For those applicants located in one of these counties, the revised deadline date is June 27, 2006 at 11:59:59 p.m. eastern time.

HUD will accept applications from applicants located in the affected counties for the programs covered by this notice in electronic format or, if granted a waiver by HUD, in hard copy submission. Request for a waiver must be sent to the program office contact listed in the original funding announcement and approved by that office. Waiver requests must be made in writing and may be submitted by e-mail provided the request is sent to HUD no later than June 20, 2006. The approval of the waiver to submit a paper application will include instructions for where to submit the application and the number of copies to submit. In accordance with the provisions of the General Section for timely receipt of applications, all applications must be received and validated by Grants.gov; or received by HUD in the case of paper application submissions, no later than the deadline date.

In order to ensure timely receipt, HUD strongly recommends applicants submit their electronic applications 48-72 hours prior to the deadline to ensure the application validation is processed prior to the deadline. If you are granted a waiver your application should be placed with a delivery service at least 24-48 hours prior to the deadline date to ensure timely receipt of paper applications before the deadline date and time. Hand deliveries will not be accepted.

Dated: June 8, 2006.
Keith A. Nelson,
Assistant Secretary for Administration.

FR Doc. E6-9328 Filed 6-13-06; 8:45 am]

BILLING CODE 4210-67-P